DEPARTMENT OF LABOR

Employment and Training Administration

Notice for Delay of Payment of Title XII Interest for Three States

AGENCY: Employment and Training Administration, Labor.

ACTION: Notice.

SUMMARY: This notice announces the approval for delay of Title XII interest payment for three states.

• Section 1202(b)(3)(B) of the Social Security Act permits a state to delay payment of interest accrued on Title XII advances made during the last five months of the Federal fiscal year (FY) (May, June, July, August, and September) to no later than December 31 of the next succeeding calendar year. Interest on the delayed payment will accrue from the normal due date (i.e., September 30) and in the same manner as if the interest due on the advance(s) was an advance made on such due date. During fiscal year 2011, the States of Colorado and New Jersey had requested delay of payment for interest accrued on advances taken during the last five months of FY 2011. Delay of interest payment for these States was granted until December 31, 2012, however New Jersey opted to repay their entire accrued interest liability on September 30, 2011.

• Section 1202(b)(9) of the Social Security Act permits a state to delay for a period not to exceed nine months the Title XII interest payment due prior to October 1 if, for the most recent 12-month period prior to such October 1 for which data are available, the state had an average total unemployment rate of 13.5 percent or greater. An interest payment delayed under paragraph (9) must be paid in full not later than the last official Federal business day prior to the following July 1, allowing that at the state's option payment of delayed interest may be accelerated. No interest shall accrue on such delayed payment. The State of Nevada had requested delay of payment for accrued interest based on these high unemployment provisions, and such delay was granted until June 30, 2012.

FOR FURTHER INFORMATION CONTACT: Thomas Stengle, U.S. Department of Labor, Employment and Training Administration, Office of Unemployment Insurance, 200 Constitution Avenue NW., Frances Perkins Bldg. Room S-4524, Washington, DC 20210, telephone number (202) 693-2991 (this is not a toll-free number) or by email: stengle.thomas@dol.gov.

Signed in Washington, DC this 23rd day of November, 2011.
Jane Oates,
Assistant Secretary, Employment and Training Administration.

[FR Doc. 2011-30966 Filed 12-1-11; 8:45 am]

BILLING CODE 4510-FW-P